DEPARTMENT OF LABOR

Employment and Training Administration

Job Corps: Preliminary Finding of No Significant Impact (FONSI) for the Proposed Job Corps Center Located on Scott Hamilton Drive in Little Rock, AR

AGENCY: Employment and Training Administration, Labor.

ACTION: Preliminary Finding of No Significant Impact (FONSI) for the proposed Job Corps Center to be located on Scott Hamilton Drive in Little Rock, Arkansas.

SUMMARY: Pursuant to the Council on Environmental Quality Regulations (40 CFR part 1500-08) implementing procedural provisions of the National Environmental Policy Act (NEPA), the Department of Labor, Employment and Training Administration, Office of Job Corps, in accordance with 29 CFR 11.11(d), gives notice that an Environmental Assessment (EA) has been prepared for a proposed new Job Corps Center to be located in Little Rock, Arkansas, and that the proposed plan for a new Job Corps Center will have no significant environmental impact. This preliminary Finding of No Significant Impact (FONSI) will be made available for public review and comment for a period of 45 days.

DATES: Comments must be submitted by March 29, 2004.

ADDRESSES: Any comment(s) are to be submitted to Eric Luetkenhaus, Employment and Training Administration, Department of Labor, 200 Constitution Avenue, NW., Room S-4203, Washington, DC 20210, (202) 693-3109 (this is not a toll-free number).

FOR FURTHER INFORMATION CONTACT: Copies of the EA are available to interested parties by contacting Michael F. O'Malley, Architect, DOL Historic Preservation Officer, U.S. Department of Labor, Employment and Training Administration, 200 Constitution Avenue, NW., Room N-4659, Washington, DC 20210, (202) 693-3108 (this is not a toll-free number).

SUPPLEMENTARY INFORMATION: This Environmental Assessment (EA) summary addresses the proposed construction of a new Job Corps Center in Little Rock, Arkansas. The subject property for the proposed Job Corps Center is an approximately 32-acre undeveloped parcel of land owned by Celestica Corporation.

The new center will require construction of nine (9) new buildings. The proposed Job Corps Center will provide housing, training, and support services for 272 resident students and 28 non-resident students. The current facility utilization plan includes new dormitories, a cafeteria building, administration offices, recreation facilities, and classroom facilities.

The construction of the Job Corps Center on this proposed site would be a positive asset to the area in terms of environmental and socioeconomic improvements, and long-term productivity. The proposed Job Corps Center will be a new source of employment opportunity for people in the central Arkansas area. The Job Corps program provides basic education, vocational skills training, work experience, counseling, health care and related support services. The program is designed to graduate students who are ready to participate in the local economy.

The proposed project will not have any significant adverse impact on any natural systems or resources. No State or Federal threatened or endangered species (proposed or listed) have been identified on the subject property.

The Job Corps Center construction will not affect any existing historic structures, as there are no known historic or archeologically sensitive areas on the proposed property parcel.

Air quality and noise levels should not be affected by the proposed development project. Due to the nature of the proposed project, it would not be a significant source of air pollutants or additional noise, except possibly during construction of the facility. All construction activities will be conducted in accordance with applicable noise and air pollution regulations, and all pollution sources will be permitted in accordance with applicable pollution control regulations.

The proposed Job Corps Center is not expected to significantly increase the vehicle traffic in the vicinity.

The proposed project will not have any significant adverse impact on the surrounding water, sewer, and storm water management infrastructure. The new buildings to be constructed for the proposed Job Corps Center will be tied in to the existing Central Arkansas Water distribution system. The new buildings to be constructed for the proposed Job Corps Center will also be tied in to the existing Little Rock Wastewater Utility system.

Entergy would provide the electricity for the site. This is not expected to create any significant impact to the regional utility infrastructure.

The relocation of the Job Corps Center is not expected to result in a significant increase in vehicular traffic, since many of the Job Corps Center residents will either live at the Job Corps Center or use public transportation. While some Job Corps Center students and staff may use personal vehicles, their number would not result in a significant increase in vehicular traffic in the area. However, the proposed Job Corps Center entrance would be from Scott Hamilton Road. Scott Hamilton Road is a well used, two-lane thoroughfare. It may be necessary to install a traffic signal or widen Scott Hamilton Road in the area of the property.

No significant adverse affects to local medical, emergency, fire and police services are anticipated. The primary medical provider located closest to the proposed Job Corps parcel is the Southwest Hospital, approximately 5 miles from the proposed Job Corps Center. The Job Corps Center will have a small medical and dental facility on-site for use by the residents as necessary. Security services at the Job Corps will be provided by the center's security staff. Law enforcement services are provided by the Little Rock Police Department's Southwest Little Rock Patrol Division, located approximately 5 miles from the proposed project site. The local fire station is the Little Rock Fire Department. The fire department has two stations which operate 24 hours a day near the proposed site.

The proposed project will not have a significant adverse sociological affect on the surrounding community. Similarly, the proposed project will not have a significant adverse affect on demographic and socioeconomic characteristics of the area.

The alternatives considered in the preparation of this FONSI were as follows: (1) No action; and (2) continue project as proposed. The no action alternative was not selected. The U.S. Department of Labor's goal of improving the Job Corps Program by improving the learning environment at Job Corps Centers would not be met under this alternative. Due to the suitability of the proposed site for establishment of a new Job Corps Center, and the absence of any identified significant adverse environmental impacts from locating a Job Corps Center on the subject property, the “continue project as proposed” alternative was selected.

Based on the information gathered during the preparation of the EA, no environmental liabilities, current or historical, were found to exist on the proposed Job Corps Center site. The construction of the Job Corps Center on Scott Hamilton Road in Little Rock, Arkansas will not create any significant adverse impacts on the environment.

Dated this 9th day of February, 2004.
Richard C. Trigg,
Administrator, Office of Job Corps.

[FR Doc. 04-3182 Filed 2-12-04; 8:45 am]

BILLING CODE 4510-30-P